DEPARTMENT OF HEALTH AND HUMAN SERVICES

National Institutes of Health

National Institute on Aging; Notice of Meeting

Pursuant to section 1009 of the Federal Advisory Committee Act, as amended, notice is hereby given of a meeting of the National Advisory Council on Aging.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Council on Aging.

Date: April 22, 2025.

Open: 1:00 p.m. to 3:00 p.m.

Agenda: Reports from Director and Working Group; Council Business.

Address: National Institute on Aging, Suite 8B, 5601 Fisher's Lane, Rockville, MD 20892.

Meeting Format: Virtual Meeting.

Open: 3:00 p.m. to 3:10 p.m.

Agenda: BREAK

Address: National Institute on Aging, Suite 8B, 5601 Fisher's Lane, Rockville, MD 20892.

Meeting Format: Virtual Meeting.

Closed: 3:10 p.m. to 4:00 p.m.

Agenda: To review and evaluate grant applications.

Address: National Institute on Aging, Suite 8B, 5601 Fisher's Lane, Rockville, MD 20892.

Meeting Format: Virtual Meeting.

Contact Person: Kenneth Santora, Ph.D., Director, Division of Extramural Activities, National Institute on Aging, National Institutes of Health, Suite 8B 5601 Fisher's Lane Rockville, MD 20892, email: kenneth.santora@nih.gov.

Information is also available on the Institute's/Center's home page: www.nia.nih.gov/about/naca, where an agenda and any additional information for the meeting will be posted when available.

(Catalogue of Federal Domestic Assistance Program Nos. 93.866, Aging Research, National Institutes of Health, HHS)

Dated: March 24, 2025.
Bruce A. George,
Program Analyst, Office of Federal Advisory Committee Policy.

[FR Doc. 2025-05319 Filed 3-27-25; 8:45 am]

BILLING CODE 4140-01-P